DEPARTMENT OF TRANSPORTATION

Federal Aviation Administration

Notice of Temporary Suspension of Amateur-Built Aircraft Kit Evaluations Previously Conducted by the Federal Aviation Administration, Aircraft Certification Service

AGENCY: Federal Aviation Administration, DOT.

SUMMARY: This notice announces the temporary suspension of courtesy amateur-built aircraft kit evaluations that have been provided by the FAA. The purpose of these evaluations was to indicate if a prefabricated amateur-built aircraft kit could be eligible for certification as an amateur-built aircraft. Although kit evaluations have been suspended, amateur-built kit manufacturers may continue to develop, manufacture, market and sell their aircraft kits. Airworthiness certifications conducted by the FAA in response to requests from amateur-builders for their individually fabricated and constructed aircraft will continue.

FOR FURTHER INFORMATION CONTACT: Frank P. Paskiewicz, Manager, Production and Airworthiness Division, Aircraft Certification Service, AIR-200, Federal Aviation Administration, 800 Independence Ave., SW., Washington, DC 20591; telephone number (202) 267-8361.

SUPPLEMENTARY INFORMATION:

Background

Title 14 of the Code of Federal Regulations, Part 21, Certification Procedures for Products and Parts, § 21.191 (Experimental Certificates) form the regulatory basis for fabricating, assembling, and operating amateur-built aircraft. Specifically, § 21.191(g) defines an amateur-built aircraft as “an aircraft the major portion of which has been fabricated and assembled by persons who undertook the construction project solely for their own education or recreation.”

The Federal Aviation Administration (FAA) Aircraft Certification Service established an Amateur-Built Aviation Rulemaking Committee (ARC) on July 26, 2006.¹ The ARC was made up of representatives from the FAA, aircraft kit manufacturers, commercial assistance center owners, and associations. The purpose of the ARC was to make recommendations regarding the use of builder or commercial assistance when fabricating and assembling amateur-built aircraft under § 21.191(g).

¹ FAA Order 1110.143, dated July 26, 2006, established the Amateur-Built Aviation Rulemaking Committee.

The ARC concluded that the current FAA Directives and Advisory Circulars are no longer adequate. Current technologies that allow for the fabrication and assembly of sophisticated amateur-built aircraft were not envisioned at the time § 21.191(g) was promulgated or when the current forms and methodology were developed. Most amateur-built aircraft kits were generally simple to fabricate and assemble and did not require commercial builder assistance.

FAA has provided the aforementioned amateur-built kit evaluations in response to manufacturer's requests to determine if the percentage of the kit completed by the manufacturer would leave the major portion (51%) of the work to be completed by the amateur-builder. These evaluations are not a regulatory requirement. Rather, these evaluations have been a courtesy that FAA has provided for the convenience of the kit manufacturers, their customers, and FAA Inspectors. These evaluations have allowed the FAA to pre-evaluate amateur-built kits to determine (when built according to the manufacturer's instructions) if the kits could be eligible for an Experimental Airworthiness Certificate under 14 CFR Part 21 § 21.191, Experimental Certificates. When a kit has been found to be eligible, it is added to the FAA's kit listing, which is available via the internet to prospective buyers. These kit evaluations inform prospective applicants that they could be eligible for an experimental amateur-built airworthiness certificate if they completed their aircraft in compliance with the FAA-evaluated assembly and instruction manuals and fabricated and constructed the aircraft in compliance with 14 CFR part 21, § 21.191(g).

The method of determining what constitutes the major portion of construction has undergone several changes since the rule was first codified. When FAA staff developed the commonly used form 8000-38, “Fabrication and Assembly Operation Checklist”, to calculate major portion, the intent was that a single check mark in a column on the form would identify who did the task. Some manufacturers and FAA representatives calculate major portion by using a “task-based” accounting mechanism that incorporates a “dual-check” system whereby an amateur-builder may be given shared credit even if that person does not complete 50% of the task. When this is used in practice, the kit manufacturer and amateur-builder share credit on the Form 8000-38. It was not envisioned that credit for a task would be offered to an amateur-builder simply assisting in the fabrication and assembly, as is happening today in some cases.

The FAA will resume amateur-built kit evaluations after issuing final policy changes. Prior to publishing the final policy, FAA will solicit comments on draft policy, internal orders and advisory circulars through a notice in the Federal Register.

Dated: February 11, 2008.
Frank Paskiewicz,
Manager, Production and Airworthiness Division.

[FR Doc. 08-704 Filed 2-14-08; 8:45 am]

BILLING CODE 4910-13-M